DEPARTMENT OF DEFENSE

Department of the Air Force

[Docket ID: USAF-2022-HQ-0010]

Submission for OMB Review; Comment Request

AGENCY: Department of the Air Force, Department of Defense (DoD).

ACTION: 30-Day information collection notice.

SUMMARY: The DoD has submitted to the Office of Management and Budget (OMB) for clearance the following proposal for collection of information under the provisions of the Paperwork Reduction Act.

DATES: Consideration will be given to all comments received by December 1, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: Fire Emergency Services—Information Management System (FES-IMS) Personnel Information; OMB Control Number 0701-FESR.

Type of Request: Existing collection in use without an OMB Control Number.

Number of Respondents: 2,000.

Responses per Respondent: 1.

Annual Responses: 2,000.

Average Burden per Response: 15 minutes.

Annual Burden Hours: 500.

Needs and Uses: Information collection is necessary to establish user accounts for Fire and Emergency Services—Information Management System (FES-IMS) users. Users are Fire Department support personnel including Air Force Active Duty, Air National Guard, Air Force Reserve personnel, Air Force Department of Defense Civilians, and Air Force Civil Engineering contractors. Air Force DoD Civilians and Contracted employees at OCONUS locations may include foreign nationals employed at U.S. Military facilities. Data collected supports the daily operations of Air Force Fire Departments and Emergency Dispatch Centers for personnel tracking, shift scheduling, training requirements tracking, and documenting after-action reports of an incident. This information is critical to protect installation resources, equipment, and personnel that require emergency services.

The data collected consists of 26 questions used to develop the personnel profile for the individual within the system. Information is collected from respondents via a face-to-face interview conducted at the respective duty location. The interview will be hosted and carried out by a uniformed military member or government civilian, assigned the FES-IMS “Core Data” collection role.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DoD Clearance Officer: Ms. Angela Duncan.

Requests for copies of the information collection proposal should be sent to Ms. Duncan at whs.mc-alex.esd.mbx.dd-dod-information-collections@mail.mil.

Dated: October 24, 2023.
Aaron T. Siegel,
Alternate OSD Federal Register Liaison Officer, Department of Defense.

[FR Doc. 2023-24062 Filed 10-31-23; 8:45 am]

BILLING CODE 6001-FR-P